ENVIRONMENTAL PROTECTION AGENCY

[ER-FRL-8586-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080309, ERP No. D-TVA-E65082-00, Mountain Reservoirs Land Management Plan, Implementation, Proposes to Develop a Plan for Managing Nine Mountain Reservoirs: Chatuge, Hiwassee, Blue Ridge, Nottely, Ocoees 1, 2, and 3, Apalachia, and Fontana Reservoirs, Fannin, Towns, and Union Counties, GA; Cherokee, Clay, Graham, and Swain Counties, North Carolina; and Polk County, TN.

Summary: EPA expressed environmental concerns about shoreline development and potential water quality impacts. Rating EC2.

EIS No. 20080315, ERP No. DA-BLM-K67011-NV, Betze Pit Expansion Project, Development of New Facilities and Expansion of Existing Open-Pit Gold Mining, Eureka and Elko Counties, NV.

Summary: EPA expressed environmental concerns about impacts from tailings closure and cessation of mine dewatering, which could include soil salinity accumulations, saline and/or alkaline runoff conditions, accelerated eolian or surface water erosion, fire, and cheatgrass or other weed infestations. Rating EC2.

EIS No. 20080239, ERP No. DS-UAF-A10051-MA, Pave Paws Early Warning Radar Operation Project, Continued Operation of the Solid-State Phased-Array Radar System (SSPARS), also known as Pave, Phased Array Warning Systems (PAWS), Cape Cod Air Force Station, MA.

Summary: EPA does not object to the proposed project. Rating LO.

Final EISs

EIS No. 20080245, ERP No. F-FHW-J40181-UT, I-15, Corridor Project, Transportation Improvement from Utah County to Salt Lake County, UT.

Summary: EPA continues to express environmental concerns about wetland and air quality impacts.

EIS No. 20080317, ERP No. F-FHW-E40815-00, Interstate 73 North Project, Construct on New Alignment, from I-95 to Future I-74 in NC, Funding, U.S. Army COE Section 404 Permit, Dillon and Malboro Counties, SC, and Richmond and Scotland Counties, NC.

Summary: EPA continues to have environmental concern about wetland impacts and the compensatory mitigation plan.

EIS No. 20080323, ERP No. F-CGD-A99225-00, Rulemaking for Dry Cargo Residue (DCR) Discharges in the Great Lakes, To Regulate Nonhazardous and Nontoxic DCR Sweeping from Vessels in the Great Lakes that fall under the Jurisdiction of the United States.

Summary: EPA does not object to the proposed project.

EIS No. 20080335, ERP No. F-BLM-E60016-00, Alabama and Mississippi Resource Management Plan, Analyzes Management Alternatives for the Public Land and Resources, in Portions of the States of Alabama and Mississippi.

Summary: EPA continues to have environmental concerns because the FEIS presented minimal discussion of how the preferred disposal method will affect the ground water resources, including the Southern Hills Regional Sole Source Aquifer.

Dated: October 7, 2008.
Robert W. Hargrove,
Director, NEPA Compliance Division, Office of Federal Activities.

[FR Doc. E8-24172 Filed 10-9-08; 8:45 am]

BILLING CODE 6560-50-P